DEPARTMENT OF COMMERCE

International Trade Administration

[C-570-159, C-560-841, C-201-861, C-489-851]

Aluminum Extrusions From the People's Republic of China, Indonesia, Mexico, and the Republic of Turkey: Initiation of Countervailing Duty Investigations

AGENCY: Enforcement and Compliance, International Trade Administration, Department of Commerce.

DATES: Applicable October 24, 2023.

FOR FURTHER INFORMATION CONTACT: Eliza DeLong (People's Republic of China (China)) at (202) 482-3878; Thomas Martin (Indonesia) at (202) 482-3936; Christopher Williams (Mexico) at (202) 482-5166; and Megan Goins (Republic of Turkey (Turkey)) at (202) 482-0884, AD/CVD Operations Enforcement and Compliance, International Trade Administration, U.S. Department of Commerce, 1401 Constitution Avenue NW, Washington, DC 20230.

SUPPLEMENTARY INFORMATION:

The Petitions

On October 4, 2023, the U.S. Department of Commerce (Commerce) received countervailing duty (CVD) petitions concerning imports of aluminum extrusions from China, Indonesia, Mexico, and Turkey filed in proper form on behalf of the U.S. Aluminum Extruders Coalition ¹ and the United Steel, Paper and Forestry, Rubber, Manufacturing, Energy, Allied Industrial and Service Workers International Union (USW) (collectively, the petitioners).² The CVD petitions were accompanied by antidumping duty (AD) petitions concerning imports of aluminum extrusions from China, Colombia, the Dominican Republic, Ecuador, India, Indonesia, Italy, the Republic of Korea, Malaysia, Mexico, Taiwan, Thailand, Turkey, the United Arab Emirates, and the Socialist Republic of Vietnam.³

¹ The members of the U.S. Aluminum Extruders Coalition are Alexandria Extrusion Company; APEL Extrusions Inc.; Bonnell Aluminum; Brazeway; Custom Aluminum Products; Extrudex Aluminum; International Extrusions; Jordan Aluminum Company; M-D Building Products, Inc.; Merit Aluminum; MI Metals; Pennex Aluminum; Tower Extrusions; and Western Extrusions.

² See Petitioners' Letter, “Aluminum Extrusions from Colombia, the Dominican Republic, Ecuador, India, Indonesia, Italy, Malaysia, Mexico, the People's Republic of China, South Korea, Taiwan, Thailand, Turkey, the United Arab Emirates and Vietnam: Petitions for the Imposition of Antidumping and Countervailing Duties,” dated October 4, 2023 (Petitions).

³ Id.

Between October 6 and 18, 2023, Commerce requested supplemental information pertaining to certain aspects of the Petitions.⁴ Subsequently, between October 11 and 20, 2023, the petitioners filed timely responses to these requests for additional information.⁵

⁴ See Commerce's Letters, “Petitions for the Imposition of Antidumping and Countervailing Duties on Imports of Aluminum Extrusions from the People's Republic of China, Colombia, the Dominican Republic, Ecuador, India, Indonesia, Italy, the Republic of Korea, Malaysia, Mexico, Taiwan, Thailand, the Republic of Turkey, the United Arab Emirates, and the Socialist Republic of Vietnam: Supplemental Questions,” dated October 6, 2023; “Petitions for the Imposition of Countervailing Duties on Imports of Aluminum Extrusions from Indonesia: Supplemental Questions,” dated October 6, 2023; “Petition for the Imposition of Countervailing Duties on Imports of Aluminum Extrusions from Mexico: Supplemental Questions,” dated October 6, 2023; “Petitions for the Imposition of Countervailing Duties on Imports of Aluminum Extrusions from the Republic of Turkey: Supplemental Questions,” dated October 6, 2023; “Petitions for the Imposition of Antidumping and Countervailing Duties on Imports of Aluminum Extrusions from the People's Republic of China, Colombia, the Dominican Republic, Ecuador, India, Indonesia, Italy, the Republic of Korea, Malaysia, Mexico, Taiwan, Thailand, the Republic of Turkey, the United Arab Emirates, and the Socialist Republic of Vietnam: Supplemental Questions,” dated October 10, 2023 (First Scope Questionnaire); “Countervailing Duty Petition on Aluminum Extrusions from the People's Republic of China: Supplemental Questions,” dated October 11, 2023; and “Petitions for the Imposition of Antidumping and Countervailing Duties on Imports of Aluminum Extrusions from the People's Republic of China, Colombia, Ecuador, the Dominican Republic, India, Indonesia, Italy, the Republic of Korea, Malaysia, Mexico, Taiwan, Thailand, the Republic of Turkey, the United Arab Emirates, and the Socialist Republic of Vietnam: Second Scope Supplemental Questionnaire,” dated October 18, 2023 (Second Scope Questionnaire); see also Memoranda, “Phone Call with Counsel to the Petitioners,” dated October 11, 2023 (October 11 Memorandum); and “Phone Call with Counsel to the Petitioners,” dated October 19, 2023 (October 19 Memorandum).

⁵ See Petitioners' Letters, “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to First Supplemental Questions Regarding Common Issues and Injury Petition Volume I of the Petition,” dated October 11, 2023 (General Issues Supplement); “Aluminum Extrusions from Mexico: Response to First Supplemental Questions Regarding Mexico Countervailing Duty Volume XVII of the Petition,” dated October 11, 2023; “Aluminum Extrusions from the Republic of Turkey: Response to First Supplemental Questions Regarding Turkey Countervailing Duty Volume XIX of the Petition,” dated October 11, 2023; “Aluminum Extrusions from Indonesia: Response to First Supplemental Questions Regarding Indonesia Countervailing Duty Volume XVI of the Petition,” dated October 12, 2023; “Aluminum Extrusions from the People's Republic of China, Indonesia, Mexico, the Republic of Turkey: Response to First Supplemental Questions Regarding China Countervailing Duty Volume XVIII of the Petition,” dated October 16, 2023; “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to First Supplemental Scope Questions Regarding Common Issues and Injury Petition Volume I of the Petition,” dated October 13, 2023 (First Scope Supplement); and “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to Second Supplemental Scope Questions Regarding Common Issues and Injury Petition Volume I of the Petition,” dated October 20, 2023 (Second Scope Supplement).

In accordance with section 702(b)(1) of the Tariff Act of 1930, as amended (the Act), the petitioners allege that the Government of China (GOC), Government of Indonesia (GOI), Government of Mexico (GOM), and Government of Turkey (GOT), are providing countervailable subsidies, within the meaning of sections 701 and 771(5) of the Act, to producers of aluminum extrusions from China, Indonesia, Mexico, and Turkey, respectively, and that such imports are materially injuring, or threatening material injury to, the domestic industry producing in the United States. Consistent with section 702(b)(1) of the Act and 19 CFR 351.202(b), for those alleged programs on which we are initiating CVD investigations, the Petitions are supported by information reasonably available to the petitioners.

Commerce finds that the petitioners filed the Petitions on behalf of the domestic industry, because the petitioners are interested parties, as defined in sections 771(9)(D) and (E) of the Act.⁶ Commerce also finds that the petitioners demonstrated sufficient industry support with respect to the initiation of the requested CVD investigations.⁷

⁶ See Petitions at Volume I (page 2). The U.S. Aluminum Extruders Coalition is an interested party under section 771(9)(E) of the Act, while the USW is an interested party under section 771(9)(D) of the Act.

⁷ See “Determination of Industry Support for the Petitions” section, infra.

Periods of Investigation

Because the Petitions were filed on October 4, 2023, the periods of investigation (POI) for China, Indonesia, Mexico, and Turkey are January 1, 2022, through December 31, 2022.⁸

⁸ See 19 CFR 351.204(b)(2).

Scope of the Investigations

The products covered by these investigations are aluminum extrusions from China, Indonesia, Mexico, and Turkey. For a full description of the scope of these investigations, see the appendix to this notice.

Comments on Scope of the Investigations

On October 10, 11, 18, and 19, 2023, Commerce requested information and clarification from the petitioners regarding the proposed scope to ensure that the scope language in the Petitions is an accurate reflection of the products for which the domestic industry is seeking relief.⁹ On October 13 and 20, 2023, the petitioners provided clarifications and revised the scope.¹⁰ The description of merchandise covered by these investigations, as described in the appendix to this notice, reflects these clarifications.

⁹ See First Scope Questionnaire; see also October 11 Memorandum; Second Scope Questionnaire; and October 19 Memorandum.

¹⁰ See First Scope Supplement at 1-19 and Exhibit I-Scope Supp-1; see also Second Scope Supplement at 1-3 and Exhibits I-Second Scope Supp-1 and I-Second Scope Supp-2.

As discussed in the Preamble to Commerce's regulations, we are setting aside a period for parties to raise issues regarding product coverage (i.e., scope).¹¹ We have some concerns related to the administrability of certain provisions in the proposed scope. For example, we find the definition of subassemblies (included) and imported merchandise that is not a part or subassembly of a larger product or system (excluded) remains an outstanding issue. Accordingly, Commerce intends to continue evaluating the scope of these investigations, with the possibility of making additional modifications to clarify further what products are covered and not covered by the scope of these investigations.

¹¹ See Antidumping Duties; Countervailing Duties, 62 FR 27296, 27323 (May 19, 1997) (Preamble); see also 19 CFR 351.312.

Commerce will consider all scope comments received and, if necessary, will consult with interested parties prior to the issuance of the preliminary determinations. If scope comments include factual information,¹² all such factual information should be limited to public information. To facilitate preparation of its questionnaires, Commerce requests that scope comments be submitted by 5 p.m. Eastern Time (ET) on November 13, 2023, which is 20 calendar days from the signature date of this notice. Any rebuttal comments, which may include factual information, must be filed by 5 p.m. ET on November 24, 2023, which is the next business day after 10 calendar days from the initial comment deadline.¹³

¹² See 19 CFR 351.102(b)(21) (defining “factual information”).

¹³ See 19 CFR 351.303(b)(1) (“For both electronically filed and manually filed documents, if the applicable due date falls on a non-business day, the Secretary will accept documents that are filed on the next business day.”) The initial deadline for rebuttal comments falls on November 23, 2023, which is a federal holiday.

Commerce requests that any factual information that the parties consider relevant to the scope of the investigations be submitted during that period. However, if a party subsequently finds that additional factual information pertaining to the scope of the investigations may be relevant, the party may contact Commerce and request permission to submit the additional information. All scope comments must also be filed on the record of each of the concurrent AD and CVD investigations.

Filing Requirements

All submissions to Commerce must be filed electronically via Enforcement and Compliance's Antidumping Duty and Countervailing Duty Centralized Electronic Service System (ACCESS), unless an exception applies.¹⁴ An electronically filed document must be received successfully in its entirety by the time and date it is due.

¹⁴ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOC, GOI, GOM, and GOT of the receipt of the Petitions and provided each an opportunity for consultations with respect to the Petitions.¹⁵ The GOC requested a consultation,¹⁶ which was held via video conference on October 16, 2023.¹⁷ The GOI requested a consultation,¹⁸ which was held via video conference on October 18, 2023.¹⁹ The GOM requested a consultation,²⁰ which was held via video conference on October 19, 2023.²¹ The GOT requested a consultation,²² which was held via video conference on October 19, 2023.²³

¹⁵ See Commerce's Letters, “Countervailing Duty Petition on Aluminum Extrusions from the People's Republic of China,” dated October 5, 2023; “Countervailing Duty Petition on Aluminum Extrusions from Indonesia: Invitation for Consultations to Discuss the Countervailing Duty Petition,” dated October 5, 2023; “Aluminum Extrusions from Mexico: Invitation for Consultation to Discuss the Countervailing Duty Petition,” dated October 5, 2023; and “Countervailing Duty Petition on Aluminum Extrusions from the Republic of Turkey,” dated October 5, 2023.

¹⁶ See GOC's Letter, “Aluminum Extrusions from the People's Republic of China: Request for Consultations to Discuss the Countervailing Duty Investigation Petitions,” dated October 9, 2023.

¹⁷ See Memorandum, “Consultations with the Officials from the Government of China,” dated October 16, 2023.

¹⁸ See GOI's Letter, “Government of Indonesia Response on the Invitation for Consultations to Discuss the Countervailing Duty Petition Concerning Imports of Aluminum Extrusions from Indonesia.,” dated October 10, 2023.

¹⁹ See Memorandum, “Consultations with the Officials from the Government of Indonesia,” dated October 19, 2023.

²⁰ See GOM's Letter, “Aluminum Extrusions from Mexico GOM's submission,” dated October 16, 2023.

²¹ See Memorandum, “Consultations with Officials from the Government of Mexico,” dated October 19, 2023.

²² See GOT's Letter, “Response to Invitation for Consultations,” dated October 9, 2023.

²³ See Memorandum, “Consultations with Officials from the Government of the Republic of Turkey,” dated October 23, 2023; see also GOT's Letter, “Countervailing Duty Petition on Aluminum Extrusions from Türkiye: Consultations Held on October 19, 2023,” dated October 23, 2023.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,²⁴ they do so for different purposes and pursuant to a separate and distinct authority. In addition, Commerce's determination is subject to limitations of time and information. Although this may result in different definitions of the like product, such differences do not render the decision of either agency contrary to law.²⁵

²⁴ See section 771(10) of the Act.

²⁵ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.²⁶ Based on our analysis of the information submitted on the record, we have determined that aluminum extrusions, as defined in the scope, constitute a single domestic like product, and we have analyzed industry support in terms of that domestic like product.²⁷

²⁶ See Petitions at Volume I (pages 23-28); see also General Issues Supplement at 1 and Exhibit I-Supp-1.

²⁷ For a discussion of the domestic like product analysis as applied to these cases and information regarding industry support, see Countervailing Duty Investigation Initiation Checklists: Aluminum Extrusions from the People's Republic of China, Indonesia, Mexico, and the Republic of Turkey, dated concurrently with this notice (Country-Specific CVD Initiation Checklists), at Attachment II, Analysis of Industry Support for the Antidumping and Countervailing Duty Petitions Covering Aluminum Extrusions from the People's Republic of China, Colombia, the Dominican Republic, Ecuador, India, Indonesia, Italy, the Republic of Korea, Mexico, Malaysia, Taiwan, Thailand, the Republic of Turkey, the United Arab Emirates, and the Socialist Republic of Vietnam (Attachment II). These checklists are on file electronically via ACCESS.

In determining whether the petitioners have standing under section 702(c)(4)(A) of the Act, we considered the industry support data contained in the Petitions with reference to the domestic like product as defined in the “Scope of the Investigations,” in the appendix to this notice. To establish industry support, the petitioners provided the total 2022 shipments of the domestic like product for the U.S. producers that support the Petitions, as well as the estimated 2022 production of the domestic like product for the plants represented by the USW, and compared this to the estimated total 2022 shipments of the domestic like product for the entire domestic industry.²⁸ The petitioners estimated the total 2022 shipments of the domestic like product for the entire U.S. industry based on information derived from the Aluminum Association.²⁹ Because total industry production data for the domestic like product for 2022 are not reasonably available to the petitioners, and the petitioners have established that shipments are a reasonable proxy for production data,³⁰ we have relied on the data provided by the petitioners for purposes of measuring industry support.³¹

²⁸ See Petitions at Volume I (pages 2-6 and Exhibits I-3, I-4, I-23, and I-58); see also General Issues Supplement at 3-7 and Exhibits I-Supp-8 through I-Supp-10.

²⁹ See Petitions at Volume I (pages 3-6 and Exhibits I-4 and I-58); see also General Issues Supplement at 3-7 and Exhibit I-Supp-8.

³⁰ See Petitions at Volume I (pages 3-5 and Exhibit I-4); see also General Issues Supplement at 4-5.

³¹ See Petitions at Volume I (pages 2-6 and Exhibits I-1 through I-4, I-23, and I-58); see also General Issues Supplement at 2-7 and Exhibits I-Supp-4 through I-Supp-10. For further discussion, see Attachment II of the Country-Specific CVD Initiation Checklists.

On October 17, 2023, we received timely filed comments on industry support from Hydro Precision Tubing USA, LLC (Hydro Precision), a U.S. producer of aluminum extrusions.³² On October 17, 2023, we also received timely filed comments on industry support from Ashley Furniture Industries, LLC and Kimball International Inc. (collectively, Ashley/Kimball), domestic producers of furniture.³³ On October 19, 2023, the petitioners responded to the comments from Hydro Precision and Ashley/Kimball in a timely filed submission.³⁴

³² See Hydro Precision's Letter, “Aluminum Extrusions from the People's Republic of China, Colombia, the Dominican Republic, Ecuador, India, Indonesia, Malaysia, Mexico, the Republic of Korea, Taiwan, Thailand, the Republic of Turkey, the United Arab Emirates, and the Socialist Republic of Vietnam: Hydro Precision Tubing USA, LLC's Comments on the Lack of Standing of the Petitioner and Request for Polling of the Domestic Industry,” dated October 17, 2023.

³³ See Ashley/Kimball's Letter, “Aluminum Extrusions from the People's Republic of China, Colombia, the Dominican Republic, Ecuador, India, Indonesia, Italy, the Republic of Korea, Malaysia, Mexico, Taiwan, Thailand, the Republic of Turkey, the United Arab Emirates, and the Socialist Republic of Vietnam: Comments on Industry Support,” dated October 17, 2023.

³⁴ See Petitioners' Letter, “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to Comments on Industry Support,” dated October 19, 2023 (Petitioners' Standing Response).

Our review of the data provided in the Petitions, the General Issues Supplement, the Petitioners' Standing Response, and other information readily available to Commerce indicates that the petitioners have established industry support for the Petitions.³⁵ First, the Petitions established support from domestic producers (or workers) accounting for more than 50 percent of the total production of the domestic like product and, as such, Commerce is not required to take further action in order to evaluate industry support (e.g., polling).³⁶ Second, the domestic producers (or workers) have met the statutory criteria for industry support under section 702(c)(4)(A)(i) of the Act because the domestic producers (or workers) who support the Petitions account for at least 25 percent of the total production of the domestic like product.³⁷ Finally, the domestic producers (or workers) have met the statutory criteria for industry support under section 702(c)(4)(A)(ii) of the Act because the domestic producers (or workers) who support the Petitions account for more than 50 percent of the production of the domestic like product produced by that portion of the industry expressing support for, or opposition to, the Petitions.³⁸ Accordingly, Commerce determines that the Petitions were filed on behalf of the domestic industry within the meaning of section 702(b)(1) of the Act.³⁹

³⁵ See Petitions at Volume I (pages 2-6 and Exhibits I-1 through I-4, I-23, and I-58); see also General Issues Supplement at 2-7 and Exhibits I-Supp-4 through I-Supp-10; and Petitioners' Standing Response at 1-23 and Exhibits 1-16. For further discussion, see Attachment II of the Country-Specific CVD Initiation Checklists.

³⁶ See Attachment II of the Country-Specific CVD Initiation Checklists; see also section 702(c)(4)(D) of the Act.

³⁷ See Attachment II of the Country-Specific CVD Initiation Checklists.

³⁸ Id.

³⁹ Id.

Injury Test

Because China, Indonesia, Mexico, and Turkey are “Subsidies Agreement Countries” within the meaning of section 701(b) of the Act, section 701(a)(2) of the Act applies to these investigations. Accordingly, the ITC must determine whether imports of the subject merchandise from China, Indonesia, Mexico, and/or Turkey materially injure, or threaten material injury to, a U.S. industry.

Allegations and Evidence of Material Injury and Causation

The petitioners allege that imports of the subject merchandise are benefiting from countervailable subsidies and that such imports are causing, or threaten to cause, material injury to the U.S. industry producing the domestic like product. In addition, the petitioners allege that subject imports from China, Indonesia, Mexico, and Turkey exceed the negligibility threshold provided for under section 771(24)(A) of the Act.⁴⁰

⁴⁰ See Petitions at Volume I (pages 37-38 and Exhibit I-16); see also General Issues Supplement at 9 and Exhibit I-Supp-11.

The petitioner contends that the industry's injured condition is illustrated by a significant volume of subject imports; reduced market share; underselling and price depression and/or suppression; lost sales and revenues; decline in the domestic industry's production, capacity utilization, and U.S. shipments; declining employment variables; and adverse impact on the domestic industry's profitability and financial performance.⁴¹ We assessed the allegations and supporting evidence regarding material injury, threat of material injury, causation, as well as negligibility, and we have determined that these allegations are properly supported by adequate evidence, and meet the statutory requirements for initiation.⁴²

⁴¹ See Petitions at Volume I (pages 22, 30-60 and Exhibits I-I-9 through I-56); see also General Issues Supplement at 7-9 and Exhibit I-Supp-11.

⁴² See Country-Specific CVD Initiation Checklists at Attachment III, Analysis of Allegations and Evidence of Material Injury and Causation for the Antidumping and Countervailing Duty Petitions Covering Aluminum Extrusions from the People's Republic of China, Colombia, the Dominican Republic, Ecuador, India, Indonesia, Italy, the Republic of Korea, Mexico, Malaysia, Taiwan, Thailand, the Republic of Turkey, the United Arab Emirates, and the Socialist Republic of Vietnam.

Initiation of CVD Investigations

Based upon the examination of the Petitions and supplemental responses, we find that they meet the requirements of section 702 of the Act. Therefore, we are initiating CVD investigations to determine whether imports of aluminum extrusions from China, Indonesia, Mexico, and Turkey benefit from countervailable subsidies conferred by the GOC, GOI, GOM, and GOT, respectively. In accordance with section 703(b)(1) of the Act and 19 CFR 351.205(b)(1), unless postponed, we will make our preliminary determinations no later than 65 days after the date of these initiations.

China

Based on our review of the Petitions, we find that there is sufficient information to initiate a CVD investigation on 35 of 41 programs alleged by the petitioners. For a full discussion of the basis for our decision to initiate an investigation of each program, see the China CVD Initiation Checklist. A public version of the initiation checklist for this investigation is available on ACCESS.

Indonesia

Based on our review of the Petitions, we find that there is sufficient information to initiate a CVD investigation on seven of eight programs alleged by the petitioners. For a full discussion of the basis for our decision to initiate an investigation of each program, see the Indonesia CVD Initiation Checklist. A public version of the initiation checklist for this investigation is available on ACCESS.

Mexico

Based on our review of the Petitions, we find that there is sufficient information to initiate a CVD investigation on 14 of 17 programs alleged by the petitioners. For a full discussion of the basis for our decision to initiate an investigation of each program, see the Mexico CVD Initiation Checklist. A public version of the initiation checklist for this investigation is available on ACCESS.

Turkey

Based on our review of the Petitions, we find that there is sufficient information to initiate a CVD investigation on 44 of 52 programs alleged by the petitioners. For a full discussion of the basis for our decision to initiate an investigation of each program, see the Turkey CVD Initiation Checklist. A public version of the initiation checklist for this investigation is available on ACCESS.

Respondent Selection

The petitioner identified 281 companies in China, 18 companies in Indonesia, 14 companies in Mexico, and 39 companies in Turkey as producers and/or exporters of aluminum extrusions.⁴³

⁴³ See Petitions at Volume I (page 18 and Exhibit I-8); see also General Issues Supplement at 1-2 and Exhibit I-Supp-3.

Commerce intends to follow its standard practice in CVD investigations and calculate company-specific subsidy rates in these investigations. In the event that Commerce determines that the number of known producers/exporters is large, and it cannot individually examine each company based upon Commerce's resources, Commerce intends to select mandatory respondents based on quantity and value (Q&V) questionnaires issued to the potential respondents. Commerce normally selects mandatory respondents in CVD investigations using U.S. Customs and Border Protection (CBP) entry data for U.S. imports under the appropriate Harmonized Tariff Schedule of the United States (HTSUS) subheadings listed in the scope of the investigations. However, for these investigations, due to the wide variety of individual types of aluminum extrusions products covered by the scope, we cannot rely on CBP entry data in selecting respondents. Notwithstanding the decision to rely on Q&V questionnaires for respondent selection, due to the large number of producers and/or exporters identified in the Petitions for China, Indonesia and Turkey, Commerce has determined to limit the number of Q&V questionnaires that it will issue to exporters and producers based on CBP data for aluminum extrusions from those countries during the POI under the appropriate HTSUS subheadings listed in the “Scope of the Investigations,” in the appendix. Accordingly, Commerce will send Q&V questionnaires to the largest producers and exporters that are identified in the CBP data for which there is complete address information on the record. With respect to Mexico, Commerce intends to send Q&V questionnaires to all producers and exporters that are identified in the Petitions for which there is complete address information on the record.

Commerce will post the Q&V questionnaires along with filing instructions on Commerce's website at https://www.trade.gov/ec-adcvd-case-announcements. Exporters/producers of aluminum extrusions from China, Indonesia, Mexico, and Turkey that do not receive Q&V questionnaires by mail may still submit a response to the Q&V questionnaire and can obtain the Q&V questionnaire from Enforcement and Compliance's website. Responses to the Q&V questionnaire must be submitted by the relevant producers/exporters no later than 5 p.m. ET on November 7, 2023, which is two weeks from the signature date of this notice. All Q&V responses must be filed electronically via ACCESS. An electronically filed document must be received successfully, in its entirety, by ACCESS no later than 5 p.m. ET on the deadline noted above. Commerce intends to finalize its decision regarding respondent selection within 20 days of publication of this notice.

Distribution of Copies of the Petitions

In accordance with section 702(b)(4)(A) of the Act and 19 CFR 351.202(f), a copy of the public version of the Petitions has been provided to the GOC, GOI, GOM, and GOT via ACCESS. Furthermore, to the extent practicable, Commerce will attempt to provide a copy of the public version of the Petitions to each exporter named in the Petitions, as provided under 19 CFR 351.203(c)(2).

ITC Notification

Commerce will notify the ITC of its initiation, as required by section 702(d) of the Act.

Preliminary Determination by the ITC

The ITC will preliminarily determine, within 45 days after the date on which the Petitions were filed, whether there is a reasonable indication that imports of aluminum extrusions from China, Indonesia, Mexico and/or Turkey are materially injuring, or threatening material injury to, a U.S. industry.⁴⁴ A negative ITC determination for a country will result in the investigation being terminated with respect to that country.⁴⁵ Otherwise, these CVD investigations will proceed according to statutory and regulatory time limits.

⁴⁴ See section 703(a)(1) of the Act.

⁴⁵ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁶ and, if the information is submitted to rebut, clarify, or correct factual information already on the record, to provide an explanation identifying the information already on the record that the factual information seeks to rebut, clarify, or correct.⁴⁷ Time limits for the submission of factual information are addressed in 19 CFR 351.301, which provides specific time limits based on the type of factual information being submitted. Interested parties should review the regulations prior to submitting factual information in these investigations.

⁴⁶ See 19 CFR 351.301(b).

⁴⁷ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301.⁴⁸ For submissions that are due from multiple parties simultaneously, an extension request will be considered untimely if it is filed after 10 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances will we grant untimely filed requests for the extension of time limits, where we determine, based on 19 CFR 351.302, that extraordinary circumstances exist. Parties should review Commerce's regulations concerning the extension of time limits and the Time Limits Final Rule prior to submitting factual information in these investigations.⁴⁹

⁴⁸ See 19 CFR 351.302.

⁴⁹ See 19 CFR 301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁵⁰ Parties must use the certification formats provided in 19 CFR 351.303(g).⁵¹ Commerce intends to reject factual submissions if the submitting party does not comply with the applicable certification requirements.

⁵⁰ See section 782(b) of the Act.

⁵¹ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under administrative protective order in accordance with 19 CFR 351.305. Parties wishing to participate in these investigations should ensure that they meet the requirements of 19 CFR 351.103(d) (e.g., by filing the required letters of appearance). Note that Commerce has temporarily modified certain of its requirements for serving documents containing business proprietary information, until further notice.⁵²

⁵² See Temporary Rule Modifying AD/CVD Service Requirements Due to COVID-19; Extension of Effective Period, 85 FR 41363 (July 10, 2020). Additionally, note that Commerce has modified its regulations to make permanent certain changes to its service procedures that were adopted on a temporary basis due to COVID-19, as well as additional clarifications and corrections to its AD/CVD regulations. Effective October 30, 2023, these changes will apply to all AD/CVD proceedings that are ongoing on the effective date and all AD/CVD proceedings initiated on or after the effective date. See Administrative Protective Order, Service, and Other Procedures in Antidumping and Countervailing Duty Proceedings, 88 FR 67069 (September 29, 2023).

This notice is issued and published pursuant to sections 702 and 777(i) of the Act, and 19 CFR 351.203(c).

Dated: October 24, 2023.
Lisa W. Wang,
Assistant Secretary for Enforcement and Compliance.

Appendix—Scope of the Investigations

The merchandise subject to these investigations are aluminum extrusions, regardless of form, finishing, or fabrication, whether assembled with other parts or unassembled, whether coated, painted, anodized, or thermally improved. Aluminum extrusions are shapes and forms, produced by an extrusion process, made from aluminum alloys having metallic elements corresponding to the alloy series designations published by the Aluminum Association commencing with the numbers 1, 3, and 6 (or proprietary equivalents or other certifying body equivalents). Specifically, subject aluminum extrusions made from an aluminum alloy with an Aluminum Association series designation commencing with the number 1 contain not less than 99 percent aluminum by weight. Subject aluminum extrusions made from an aluminum alloy with an Aluminum Association series designation commencing with the number 3 contain manganese as the major alloying element, with manganese accounting for not more than 3.0 percent of total materials by weight. Subject aluminum extrusions made from an aluminum alloy with an Aluminum Association series designation commencing with the number 6 contain magnesium and silicon as the major alloying elements, with magnesium accounting for at least 0.1 percent but not more than 2.0 percent of total materials by weight, and silicon accounting for at least 0.1 percent but not more than 3.0 percent of total materials by weight. The scope also includes merchandise made from an aluminum alloy with an Aluminum Association series designation commencing with the number 5 (or proprietary equivalents or other certifying body equivalents) that have a magnesium content accounting for up to but not more than 2.0 percent of total materials by weight.

The country of origin of the aluminum extrusion is determined by where the metal is extruded (i.e., pressed through a die).

Aluminum extrusions are produced and imported in a wide variety of shapes and forms, including, but not limited to, hollow profiles, other solid profiles, pipes, tubes, bars, and rods. Aluminum extrusions that are drawn subsequent to extrusion (drawn aluminum) are also included in the scope.

Subject aluminum extrusions are produced and imported with a variety of coatings and surface treatments, and types of fabrication. The types of coatings and treatments applied to aluminum extrusions include, but are not limited to, extrusions that are mill finished (i.e., without any coating or further finishing), brushed, buffed, polished, anodized (including brightdip), liquid painted, electroplated, chromate converted, powder coated, sublimated, wrapped, and/or bead blasted. Subject aluminum extrusions may also be fabricated, i.e., prepared for assembly, or thermally improved. Such operations would include, but are not limited to, extrusions that are cut-to-length, machined, drilled, punched, notched, bent, stretched, stretch-formed, hydroformed, knurled, swedged, mitered, chamfered, threaded, and spun. Performing such operations in third countries does not otherwise remove the merchandise from the scope of the investigations.

The types of products that meet the definition of subject merchandise include but are not limited to, vehicle roof rails and sun/moon roof framing, solar panel racking rails and framing, tradeshow display fixtures and framing, parts for tents or clear span structures, fence posts, drapery rails or rods, electrical conduits, door thresholds, flooring trim, electric vehicle battery trays, heat sinks, signage or advertising poles, picture frames, telescoping poles, or cleaning system components.

Aluminum extrusions may be heat sinks, which are fabricated aluminum extrusions that dissipate heat away from a heat source and may serve other functions, such as structural functions. Heat sinks come in a variety of sizes and shapes, including but not limited to a flat electronic heat sink, which is a solid aluminum extrusion with at least one flat side used to mount electronic or mechanical devices; a heat sink that is a housing for electronic controls or motors; lighting heat sinks, which dissipate heat away from LED devices; and process and exchange heat sinks, which are tube extrusions with fins or plates used to hold radiator tubing. Heat sinks are included in the scope, regardless of whether the design and production of the heat sinks are organized around meeting specified thermal performance requirements and regardless of whether they have been tested to comply with such requirements. For purposes of these investigations on aluminum extrusions from the People's Republic of China, only heat sinks designed and produced around meeting specified thermal performance requirements and tested to comply with such requirements are included in the scope.

Merchandise that is comprised solely of aluminum extrusions or aluminum extrusions and fasteners, whether assembled at the time of importation or unassembled, is covered by the scope in its entirety.

The scope also covers aluminum extrusions that are imported with non-extruded aluminum components beyond fasteners, whether assembled at the time of importation or unassembled, that are a part or subassembly of a larger product or system. Only the aluminum extrusion portion of the merchandise described in this paragraph, whether assembled or unassembled, is subject to duties. Examples of merchandise that is a part or subassembly of a larger product or system include, but are not limited to, window parts or subassemblies; door unit parts or subassemblies; shower and bath system parts or subassemblies; solar panel mounting systems; fenestration system parts or subassemblies, such as curtain wall and window wall units and parts or subassemblies of storefronts; furniture parts or subassemblies; appliance parts or subassemblies, such as fin evaporator coils and systems for refrigerators; railing or deck system parts or subassemblies; fence system parts or subassemblies; motor vehicle parts or subassemblies, such as bumpers for motor vehicles; trailer parts or subassemblies, such as side walls, flooring, and roofings; electric vehicle charging station parts or subassemblies; or signage or advertising system parts or subassemblies. Parts or subassemblies described by this paragraph that are subject to duties in their entirety pursuant to existing antidumping and countervailing duty orders are excluded from the scope of these investigations, so long as they remain subject to the scope of such orders. Any part or subassembly that otherwise meets the requirements of this scope and that is not covered by other antidumping and/or countervailing duty orders remains subject to the scope of these investigations.

The scope excludes assembled merchandise containing non-extruded aluminum components beyond fasteners that is not a part or subassembly of a larger product or system and that is used as imported, without undergoing after importation any processing, fabrication, finishing, or assembly or the addition of parts or material, regardless of whether the additional parts or material are interchangeable.

The scope also excludes merchandise containing non-extruded aluminum components beyond fasteners that is not a part or subassembly of a larger product or system that enters unassembled as a packaged combination of parts to be assembled as is for its intended use, without undergoing after importation any processing, fabrication, or finishing or the addition of parts or material, regardless of whether the additional parts or material are interchangeable. To be excluded under this paragraph, the merchandise must be sold and enter as a discrete kit on one Customs entry form.

Examples of such excluded assembled and unassembled merchandise include windows with glass, door units with door panel and glass, motor vehicles, trailers, furniture, and appliances.

The scope also includes aluminum extrusions that have been further processed in a third country, including, but not limited to, the finishing and fabrication processes described above, assembly, whether with other aluminum extrusion components or with non-aluminum extrusion components, or any other processing that would not otherwise remove the merchandise from the scope if performed in the country of manufacture of the in-scope product. Third-country processing; finishing; and/or fabrication, including those processes described in the scope, does not alter the country of origin of the subject aluminum extrusions.

The following aluminum extrusion products are excluded: aluminum extrusions made from an aluminum alloy with an Aluminum Association series designations commencing with the number 2 (or proprietary equivalents or other certifying body equivalents) and containing in excess of 1.5 percent copper by weight; aluminum extrusions made from an aluminum alloy with an Aluminum Association series designation commencing with the number 5 (or proprietary equivalents or other certifying body equivalents) and containing in excess of 2.0 percent magnesium by weight; and aluminum extrusions made from an aluminum alloy with an Aluminum Association series designation commencing with the number 7 (or proprietary equivalents or other certifying body equivalents) and containing in excess of 2.0 percent zinc by weight.

The scope also excludes aluminum alloy sheet or plates produced by means other than the extrusion process, such as aluminum products produced by a method of continuous casting or rolling. Cast aluminum products are also excluded. The scope also excludes unwrought aluminum in any form.

The scope also excludes collapsible tubular containers composed of metallic elements corresponding to alloy code 1080A as designated by the Aluminum Association (not including proprietary equivalents or other certifying body equivalents) where the tubular container (excluding the nozzle) meets each of the following dimensional characteristics: (1) length of 37 millimeters (mm) or 62 mm; (2) outer diameter of 11.0 mm or 12.7 mm; and (3) wall thickness not exceeding 0.13 mm.

Also excluded from the scope of these investigations is certain rectangular wire, imported in bulk rolls or precut strips and produced from continuously cast rolled aluminum wire rod, which is subsequently extruded to dimension to form rectangular wire with or without rounded edges. The product is made from aluminum alloy grade 1070 or 1370 (not including proprietary equivalents or other certifying body equivalents), with no recycled metal content allowed. The dimensions of the wire are 2.95 mm to 6.05 mm in width, and 0.65 mm to 1.25 mm in thickness. Imports of rectangular wire are provided for under Harmonized Tariff Schedule of the United States (HTSUS) subheadings 7605.19.0000, 7604.10.5000, or 7616.99.5190.

Also excluded from the scope of these antidumping and countervailing duty investigations on aluminum extrusions from the People's Republic of China are all products covered by the scope of the antidumping and countervailing duty orders on Aluminum Extrusions from the People's Republic of China. See Aluminum Extrusions from the People's Republic of China: Antidumping Duty Order, 76 FR 30,650 (May 26, 2011); and Aluminum Extrusions from the People's Republic of China: Countervailing Duty Order, 76 FR 30,653 (May 26, 2011) (collectively, Aluminum Extrusions from the People's Republic of China). Solely for these investigations on aluminum extrusions from the People's Republic of China, the following is an exhaustive list of products that meet the definition of subject merchandise. Merchandise that is not included in the following list that meets the definition of subject merchandise in the 2011 antidumping and countervailing duty orders on Aluminum Extrusions from the People's Republic of China remains subject to the earlier orders. No other section of this scope language that provides examples of subject merchandise is exhaustive. The following products are included in the scope of these investigations on aluminum extrusions from the People's Republic of China, whether assembled or unassembled: heat sinks as described above; cleaning system components like mops and poles; banner stands/back walls; fabric wall systems; drapery rails; side mount valve controls; water heater anodes; solar panel mounting systems; 5050 alloy rails for showers and carpets; auto heating and cooling system components; assembled motor cases with stators; louver assemblies; event décor; window wall units and parts; trade booths; micro channel heat exchangers; telescoping poles, pole handles, and pole attachments; flagpoles; wind sign frames; foreline hose assembly; electronics enclosures; parts and subassemblies for storefronts, including portal sets; light poles; air duct registers; outdoor sporting goods parts and subassemblies; glass refrigerator shelves; aluminum ramps; handicap ramp system parts and subassemblies; frames and parts for tents and clear span structures; parts and subassemblies for screen enclosures, patios, and sunrooms; parts and subassemblies for walkways and walkway covers; aluminum extrusions for LED lights; parts and subassemblies for screen, storm, and patio doors; pontoon boat parts and subassemblies, including rub rails, flooring, decking, transom structures, canopy systems, seating; boat hulls, framing, ladders, and transom structures; parts and subassemblies for docks, piers, boat lifts and mounting; recreational and boat trailer parts and subassemblies, including subframes, crossmembers, and gates; solar tracker assemblies with gears; garage door framing systems; door threshold and sill assemblies; highway and bridge signs; bridge, street, and highway rails; scaffolding, including planks and struts; railing and support systems; parts and subassemblies for exercise equipment; weatherstripping; door bottom and sweeps; door seals; floor transitions and trims; parts and subassemblies for modular walls and office furniture; truck trailer parts and subassemblies; boat cover poles, outrigger poles, and rod holders; bleachers and benches; parts and subassemblies for elevators, lifts, and dumbwaiters; parts and subassemblies for mirror and framing systems; window treatments; parts and subassemblies for air foils and fans; bus and RV window frames; sliding door rails; dock ladders; parts and subassemblies for RV frames and trailers; awning, canopy, and sunshade structures and their parts and subassemblies; marine motor mounts; linear lighting housings; and cluster mailbox systems.

Imports of the subject merchandise are primarily provided for under the following categories of the HTSUS: 7604.10.1000; 7604.10.3000; 7604.10.5000; 7604.21.0010; 7604.21.0090; 7604.29.1010; 7604.29.1090; 7604.29.3060; 7604.29.3090; 7604.29.5050; 7604.29.5090; 7608.10.0030; 7608.10.0090; 7608.20.0030; 7608.20.0090; 7609.00.0000; 7610.10.0010; 7610.10.0020; 7610.10.0030; 7610.90.0040; and 7610.90.0080.

Imports of the subject merchandise, including subject merchandise entered as parts of other products, may also be classifiable under the following additional HTSUS categories, as well as other HTSUS categories: 6603.90.8100; 7606.12.3091; 7606.12.3096; 7615.10.2015; 7615.10.2025; 7615.10.3015; 7615.10.3025; 7615.10.5020; 7615.10.5040; 7615.10.7125; 7615.10.7130; 7615.10.7155; 7615.10.7180; 7615.10.9100; 7615.20.0000; 7616.10.9090; 7616.99.1000; 7616.99.5130; 7616.99.5140; 7616.99.5190; 8302.10.3000; 8302.10.6030; 8302.10.6060; 8302.10.6090; 8302.20.0000; 8302.30.3010; 8302.30.3060; 8302.41.3000; 8302.41.6015; 8302.41.6045; 8302.41.6050; 8302.41.6080; 8302.42.3010; 8302.42.3015; 8302.42.3065; 8302.49.6035; 8302.49.6045; 8302.49.6055; 8302.49.6085; 8302.50.0000; 8302.60.3000; 8302.60.9000; 8305.10.0050; 8306.30.0000; 8414.59.6590; 8415.90.8045; 8418.99.8005; 8418.99.8050; 8418.99.8060; 8419.50.5000; 8419.90.1000; 8422.90.0640; 8424.90.9080; 8473.30.2000; 8473.30.5100; 8479.89.9599; 8479.90.8500; 8479.90.9596; 8481.90.9060; 8481.90.9085; 8486.90.0000; 8487.90.0080; 8503.00.9520; 8508.70.0000; 8513.90.2000; 8515.90.2000; 8516.90.5000; 8516.90.8050; 8517.71.0000; 8517.79.0000; 8529.90.7300; 8529.90.9760; 8536.90.8585; 8538.10.0000; 8541.90.0000; 8543.90.8885; 8547.90.0020; 8547.90.0030; 8708.10.3050; 8708.29.5160; 8708.80.6590; 8708.99.6890; 8807.30.0060; 9031.90.9195; 9401.99.9081; 9403.99.1040; 9403.99.9010; 9403.99.9015; 9403.99.9020; 9403.99.9040; 9403.99.9045; 9405.99.4020; 9506.11.4080; 9506.51.4000; 9506.51.6000; 9506.59.4040; 9506.70.2090; 9506.91.0010; 9506.91.0020; 9506.91.0030; 9506.99.0510; 9506.99.0520; 9506.99.0530; 9506.99.1500; 9506.99.2000; 9506.99.2580; 9506.99.2800; 9506.99.5500; 9506.99.6080; 9507.30.2000; 9507.30.4000; 9507.30.6000; 9507.30.8000; 9507.90.6000; 9547.90.0040; and 9603.90.8050.

While HTSUS subheadings are provided for convenience and customs purposes, the written description of the scope is dispositive.

[FR Doc. 2023-23961 Filed 10-30-23; 8:45 am]

BILLING CODE 3510-DS-P